DEPARTMENT OF THE INTERIOR

National Park Service

Notice of Inventory Completion for Native American Human Remains and Associated Funerary Objects from Kawaihae, Kohala, Island of Hawaii, HI in the Possession of Bernice Pauahi Bishop Museum, Honolulu, HI

AGENCY: National Park Service.

ACTION: Notice.

Notice is hereby given in accordance with provisions of the Native American Graves Protection and Repatriation Act (NAGPRA), 43 CFR 10.9, of the completion of an inventory of human remains and associated funerary objects from Kawaihae, Kohala, Island of Hawaii, HI in the possession of Bernice Pauahi Bishop Museum, Honolulu, HI.

A detailed assessment of the human remains was made by professional staff in consultation with representatives of the Hawaii Island Burial Council, Hui Malama I Na Kupuna O Hawai'i Nei, the Department of Hawaiian Homelands, and the Office of Hawaiian Affairs.

In 1905, human remains representing a minimum of four individuals were removed from a lava tube complex by David Forbes, William Wagner, and Friedrich A. Haenisch. In 1907, these human remains, incorporated into two wooden bowls, one wooden image, and one wig, were donated to the Bishop Museum. No known individuals were identified. No associated funerary objects are present.

Based on 43 CFR 10.2(d)(2-4), officials of the Bishop Museum have determined that these cultural items listed above are not unassociated funerary objects, sacred objects, or objects of cultural patrimony, however, the human remains incorporated into these cultural items do meet the definition of “human remains” in 43 CFR 10.2(d)(1). Based on historical and anthropological evidence, officials of the Bishop Museum have determined that these human remains were not freely given or naturally shed from the individuals from whose bodies they were obtained. Based on historical and anthropological evidence, officials of the Bishop Museum have determined these human remains are most likely those of Native Hawaiians.

In 1935, human remains representing five individuals were removed from a lava tube complex in Kawaihae, Kohala, HI by J. Everett Brumagh. In 1939, these human remains were donated to the Bishop Museum by Mr. Brumagh. No known individuals were identified. The one associated funerary object is part of a coffin.

In 1939, human remains representing nine individuals were removed from a lava tube complex in Kawaihae, Kohala, HI by Kenneth P. Emory, Bishop Museum Ethnologist, and Keith K. Jones. No known individuals were identified. No associated funerary objects can be identified.

Based on the style and type of the associated funerary object and unassociated funerary objects from this lava tube complex, manner of interments, and recovery locations, these individuals have been determined to be Native American. In consultation with the Hawaii Island Burial Council, Hui Malama I Na Kupuna O Hawai'i Nei, and the Office of Hawaiian Affairs, the Bishop Museum decided that no attempt would be made to determine the age of the human remains. Due to the lack of identifiable individuals, the Bishop Museum has been unable to make any lineal descent determinations. Bishop Museum officials believe the claims of the Hawaii Island Burial Council, Hui Malama I Na Kupuna O Hawai'i Nei, the Department of Hawaiian Homelands, and the Office of Hawaiian Affairs address and encompass individual, family, and community interests.

Based on the above mentioned information, officials of the Bishop Museum have determined that, pursuant to 43 CFR 10.2(d)(1), the human remains listed above represent the physical remains of a minimum of 18 individuals of Native American ancestry. Officials of the Bishop Museum have also determined that, pursuant to 43 CFR 10.2 (d)(2), the one object listed above is reasonably believed to have been placed with or near individual human remains at the time of death or later as part of the death rite or ceremony. Lastly, officials of the Bishop Museum have determined that, pursuant to 43 CFR 10.2(e), there is a relationship of shared group identity which can be reasonably traced between these Native American human remains and associated funerary object and the Hawaii Island Burial Council, Hui Malama I Na Kupuna O Hawai'i Nei, the Department of Hawaiian Homelands, and the Office of Hawaiian Affairs.

This notice has been sent to officials of the Hawaii Island Burial Council, Hui Malama I Na Kupuna O Hawai'i Nei, the Department of Hawaiian Homelands, the Office of Hawaiian Affairs, Henry A. Auwae, and Melvin Kalahiki, Sr. Representatives of any other Indian tribe that believes itself to be culturally affiliated with these human remains and associated funerary object should contact Valerie Free, Unit Manager, Bishop Museum, 1525 Bernice Street, Honolulu, HI 96817, telephone: (808) 847-8205, before May 5, 2000. Repatriation of the human remains and associated funerary object to the Hawaii Island Burial Council, Hui Malama I Na Kupna O Hawai'i Nei, the Department of Hawaiian Homelands, and the Office of Hawaiian Affairs may begin after that date if no additional claimants come forward.

Dated: March 22, 2000.
Francis P. McManamon,
Departmental Consulting Archeologist, Manager, Archeology and Ethnography Program.

[FR Doc. 00-8351 Filed 4-4-00; 8:45 am]

BILLING CODE 4310-70-F